DEPARTMENT OF COMMERCE

National Oceanic and Atmospheric Administration

[RTID 0648-XE129]

Caribbean Fishery Management Council; Public Meeting

AGENCY: National Marine Fisheries Service (NMFS), National Oceanic and Atmospheric Administration (NOAA), Commerce.

ACTION: Notice of public hybrid meeting (in-person/virtual).

SUMMARY: The Caribbean Fishery Management Council (CFMC) will hold the 185th public hybrid meeting to address the items contained in the tentative agenda included in the SUPPLEMENTARY INFORMATION.

DATES: The 185th CFMC public hybrid meeting will be held on August 13, 2024, from 9 a.m. to 4:45 p.m. A closed session will be held from 5 p.m. to 5:30 p.m., to discuss personnel matters, and on August 14, 2024, from 8:30 a.m. to 4:15 p.m., AST.

ADDRESSES:

Meeting address: The meeting will be held at The Buccaneer Hotel, Estate Shoys, St. Croix, U.S. Virgin Islands.

You may join the 185th CFMC public hybrid meeting via Zoom, from a computer, tablet or smartphone by entering the following address:

Join Zoom Meeting: https://us02web.zoom.us/j/83060685915?pwd=VmVsc1orSUtKck8xYk1XOXNDY1ErZz09

Meeting ID: 830 6068 5915

Passcode: 995658

One tap mobile: +17879451488,,83060685915#,,,,,,0#,,995658# Puerto Rico; +17879667727,,83060685915#,,,,,,0#,,995658# Puerto Rico

Dial by your location: +1 787 945 1488 Puerto Rico; +1 787 966 7727 Puerto Rico; +1 939 945 0244 Puerto Rico

Meeting ID: 830 6068 5915

Passcode: 995658

In case there are problems, and we cannot reconnect via Zoom, the meeting will continue using GoToMeeting.

You can join the meeting from your computer, tablet, or smartphone at https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903; telephone: (787) 398-3717.

SUPPLEMENTARY INFORMATION: The following items included in the tentative agenda will be discussed:

August 13, 2024

9 a.m.-9:30 a.m.

—Call to Order

—Roll Call

—Adoption of Agenda

—Consideration of 184th Council Meeting Verbatim Transcriptions

—Executive Director's Report

9:30 a.m.-10 a.m.

—NOAA Fisheries Actions—Sam Rauch, Deputy Assistant Administrator for Regulatory Programs, NOAA Fisheries

—Confidentiality Rule Update

—Council on Environmental Quality NEPA Regulations

—America the Beautiful 30 x 30

—ESA/MSA Integration Policy Draft

10 a.m.-10:45 a.m.

—Update NMFS/Council Actions and IBFMP Amendments—María López-Mercer, NOAA Fisheries/Southeast Regional Office (SERO)

10:45 a.m.-11 a.m.

—Break

11 a.m.-12 p.m.

—Federal Permits Discussion and Example—Puerto Rico Deepwater Snappers—Jessica Stephen, NOAA Fisheries/Southeast Regional Office (SERO)

12 p.m.-1:30 p.m.

—Lunch Break

1:30 p.m.-1:50 p.m.

—Community Climate Change Vulnerability Project for US Caribbean—Tarsila Seara, NOAA Fisheries, Northeast Regional Office

1:50 p.m.-2:50 p.m.

—USVI Queen Triggerfish Framework Action to Establish Management Reference Points Based on SEDAR 80—Sarah Stephenson, NOAA Fisheries/Southeast Regional Office (SERO)

2:50 p.m.-3:20 p.m.

—Rainbow Runner Amendment 4—Draft Document Discussion—María López-Mercer, NOAA Fisheries/Southeast Regional Office (SERO)

3:20 p.m.-3:30 p.m.

—Break

3:30 p.m.-4 p.m.

—2024 Annual Catch Limits Monitoring—NOAA Fisheries/Southeast Regional Office (SERO)

4 p.m.-4:30 p.m.

—Protected Resources Division Update—Jennifer Lee, NOAA Fisheries/Southeast Regional Office (SERO)

4:30 p.m.-4:45 p.m.

—Safe Fishing Zones—Carlos Farchette, CFMC Chair

4:45 p.m.

—Adjourn for the Day

5 p.m.-5:30 p.m.

—Closed Session

August 14, 2024

8:30 a.m.-9 a.m.

—Southeast Fisheries Science Center Update—Kevin McCarthy, NOAA Fisheries

—Survey of Stakeholder Priorities for Caribbean Fisheries Management

9 a.m.-9:15 a.m.

—Outcomes from WECAFC Flying Fish Dolphinfish Working Group Meeting and WECAFC Spawning Aggregations Working Group Meeting—Laura Cimo, NOAA Fisheries, The Office of International Affairs, Trade, and Commerce

9:15 a.m.-9:45 a.m.

—Queen Triggerfish Life history—Jesús Rivera Hernández, University of South Carolina at Aiken

9:45 a.m.-10:15 a.m.

—Lane Snapper Study Results—Jesús Rivera Hernández, University of South Carolina at Aiken

10:15 a.m.-10:30 a.m.

—Break

10:30 a.m.-11:15 a.m.

—Outreach and Education Report

—Liaison Officers Descending Devices July Meeting Report—Liandry A. de La Cruz

—Social Networks Report—Cristina Olán

—Chefs' Workshop on Underutilized Species—Jannette Ramos

11:15 a.m.-11:30 a.m.

—Lionfish Derby Report—Mike Funk

11:30 a.m.-12 p.m.

—Electronic Monitoring and Reporting (EMR) Grant Program—Willy Goldsmith, Field Liaison for the National Fish and Wildlife Foundation

12 p.m.-1:30 p.m.

—Lunch Break

1:30 p.m.-2 p.m.

—Aging of Spiny Lobster Study—Ana Medina, University of Puerto Rico at Mayagüez

2 p.m.-2:30 p.m.

—EBFM TAP Update—Sennai Habtes, EBFM TAP Chair and Liajay Rivera, CFMC Staff

2:30 p.m.-3:30 p.m.

—Enforcement Reports (15-minutes each)

—Puerto Rico—DNER

—USVI—DPNR

—U.S. Coast Guard

—NMFS/NOAA

3:30 p.m.-3:40 p.m.

—Break

3:40 p.m.-3:50 p.m.

—Advisory Bodies Membership

3:50 p.m.-4 p.m.

—Other Business

4 p.m.-4:15 p.m.

—Public Comment Period (5-minute presentations)

—Next Meeting

—Adjourn

Note (1): Other than starting time and dates of the meetings, the established times for addressing items on the agenda may be adjusted as necessary to accommodate the timely completion of discussion relevant to the agenda items. To further accommodate discussion and completion of all items on the agenda, the meeting may be extended from or completed before the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on August 13, 2024, at 9 a.m., AST, and will end on August 14, 2024, at 4:15 p.m., AST. Other than the start time on the first day of the meeting, interested parties should be aware that discussions may start earlier or later than indicated in the agenda, at the discretion of the Chair.

Special Accommodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: July 18, 2024.
Rey Israel Marquez,
Acting Deputy Director, Office of Sustainable Fisheries, National Marine Fisheries Service.

[FR Doc. 2024-16215 Filed 7-23-24; 8:45 am]

BILLING CODE 3510-22-P